FEDERAL ELECTION COMMISSION

Sunshine Act Meeting

Previously Announced Date: Tuesday, October 8, 2002. The closed meeting and the open meeting scheduled for that day were canceled.

DATE AND TIME: Tuesday, October 22, 2002 at 10 a.m.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE AND TIME: Wednesday, October 23, 2002 and Thursday, October 24, 2002 at 9:30 a.m.

PLACE: 999 E Street, NW., Washington, DC (ninth floor).

STATUS: This meeting will be open to the public.

MATTER BEFORE THE COMMISSION: Coordinated and Independent Expenditures: Notice of Proposed Rulemaking.

PREVIOUSLY ANNOUNCED DATE AND TIME: Thursday, October 24, 2002, 10 a.m., meeting open to the public. This meeting has been canceled.

PERSON TO CONTACT FOR INFORMATION: Mr. Ron Harris, Press Officer, Telephone (202) 694-1220.

Mary W. Dove,
Secretary of the Commission.

[FR Doc. 02-26633 Filed 10-15-02; 3:20 pm]

BILLING CODE 6715-01-M